DEPARTMENT OF ENERGY

National Nuclear Security Administration; Postponement of Scoping Meeting for the Proposed Relocation of the Los Alamos National Laboratory Technical Area 18 Missions

AGENCY: Department of Energy, National Nuclear Security Administration.

ACTION: Postponement of scoping meeting.

SUMMARY: On May 2, 2000, the Department of Energy (DOE) announced in the Federal Register, (65 FR 25472), that it would hold scoping meetings for the proposal to relocate missions at Technical Area 18 (TA-18). Due to the recent fire at the Los Alamos National Laboratory (LANL), the scoping meeting scheduled for May 17, 2000 at the Betty Ehart Senior Center, 2132 Central Avenue, Los Alamos, NM, has been postponed. DOE will provide notice of the new date, time, and location for this meeting when it becomes available. DOE regrets any inconvenience for this postponement. Any questions associated with the TA-18 Project can be asked by calling Mr. Jay Rose at 1-800-832-0885, ext. 65484.

Issued in Washington, D.C., this 15th day of May 2000.
Henry Garson,
NEPA Compliance Officer, Office of Defense Programs, Department of Energy.

[FR Doc. 00-12630 Filed 5-16-00; 1:33 pm]

BILLING CODE 6450-01-P